DEPARTMENT OF HOUSING AND URBAN DEVELOPMENT

[Docket No. FR-7076-N-08]

60-Day Notice of Proposed Information Collection: Public Housing Capital Fund Amendments to the Annual Contributions Contract, OMB Control No.: 2577-NEW

AGENCY: Office of the Assistant Secretary for Public and Indian Housing (PIH), HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: July 3, 2023.

ADDRESSES: Interested persons are invited to submit comments regarding this proposal. Written comments and recommendations for the proposed information collection can be sent within 60 days of publication of this notice to OIRA_submission@omb.eop.gov or www.reginfo.gov/public/do/PRAMain. Find this particular information collection by selecting “Currently under 60-day Review—Open for Public Comments” or by using the search function.

Interested persons are also invited to submit comments regarding this proposal by name and/or OMB Control Number and can be sent to: Colette Pollard, Reports Management Officer, REE, Department of Housing and Urban Development, 451 7th Street SW, Room 8210, Washington, DC 20410-5000; or email at PaperworkReductionActOffice@hud.gov.

FOR FURTHER INFORMATION CONTACT: Leea J. Thornton, Office of Policy, Programs and Legislative Initiatives, PIH, Department of Housing and Urban Development, 451 7th Street SW, Room 3178, Washington, DC 20410; telephone 202-402-6455. This is not a toll-free number. HUD welcomes and is prepared to receive calls from individuals who are deaf or hard of hearing, as well as individuals with speech or communication disabilities. To learn more about how to make an accessible telephone call, please visit https://www.fcc.gov/consumers/guides/telecommunications-relay-service-trs.

Copies of available documents submitted to OMB may be obtained from Ms. Thornton.

SUPPLEMENTARY INFORMATION: This notice informs the public that HUD is seeking approval from OMB for the information collection described in Section A.

A. Overview of Information Collection

Title of Information Collection: Public Housing Capital Fund Amendments to the Annual Contributions Contract.

OMB Approval Number: New Collection.

Type of Request: New.

Form Number: HUD-52840A.

Description of the need for the information and proposed use: HUD previously submitted this information under collection OMB 2577-0075 which included inventory removal information as well as information on amendments to the ACC. The reason for the move is to keep similar types of information in separate collections. In addition to moving this information to a new collection, the HUD-52190 Declaration of Trust/Restrictive Covenants and the Mixed Finance Amendment to the ACC were moved to OMB 2577-0275—Public/Private Partnerships for the Mixed-Finance Development of Public Housing Units. All other information regarding inventory removals was retained in OMB 2577-0075 which is being renewed. PHAs are required to submit information to HUD in connection with their grantee duties to operate and maintain/modernize public housing dwelling units and other real property under the United States Housing Act of 1937 (1937 Act) (42 U.S.C. 1437g). Section 9 of the 1937 Act permits the Secretary of HUD to make grants (i.e., annual contributions) to public housing agencies (PHAs) to achieve and maintain the low-income character of public housing projects. The Secretary is required to embody the provisions for such annual contributions in an agreement (i.e., the ACC). Applicable regulations are 24 CFR part 905 for public housing development and modernization.

Respondents: Public Housing Agencies.

ACC provisions/HUD form | Total responses | Burden hours per response | Total hours | Cost per hour | ($) Total cost
1. Amend ACC for Capital Fund Finance | 10 | 10.8 | 108 | $44.56 | $4,812
2. Amend ACC for Annual Capital Fund Formula Grant via form HUD 52840-A | 2,770 | 3.9 | 10,803 | 44.56 | 481,382
3. Amend ACC for Emergency Capital Fund Grant | 38 | 2.6 | 99 | 44.56 | 3,905
4. Amend ACC Capital Fund for Safety and Security | 75 | 1.3 | 98 | 44.56 | 3,865
5. Amend ACC to Recapture Annual Capital Fund Formula Grant via form HUD 52840-A | 123 | 5.2 | 640 | 44.56 | 25,242
6. Amend ACC for Energy Performance Contract | 38 | 5.1 | 194 | 44.56 | 7,651
Totals | 3,067 |  | 11,970 |  | 533,352

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comments in response to these questions.

C. Authority

Section 3507 of the Paperwork Reduction Act of 1995, 44 U.S.C. chapter 35.

Steven Durham,
Acting Chief, Office of Policy, Programs and Legislative.

[FR Doc. 2023-09220 Filed 5-1-23; 8:45 am]

BILLING CODE 4210-67-P